DEPARTMENT OF ENERGY

Federal Energy Regulatory Commission

[Docket No. PF04-7-000]

Entrega Gas Pipeline Inc.; Notice of Intent To Prepare an Environmental Impact Statement for the Planned Entrega Gas Pipeline Project, Request for Comments on Environmental Issues, and Notico Public Scoping Meetings and Route Inspection

May 3, 2004.

The staff of the Federal Energy Regulatory Commission (FERC or Commission) will prepare an environmental impact statement (EIS) on Entrega Gas Pipeline Inc.'s (Entrega) planned Entrega Gas Pipeline Project in northern Colorado and southern Wyoming. This notice announces the opening of the scoping process the Commission will use to gather input from the public and interested agencies on the planned project. Your input will help to determine which issues need to be evaluated in the EIS. The Commission will use the EIS in its decision-making process to determine whether or not to authorize the project. Please note that the scoping period will close on June 15, 2004.

Comments may be submitted in written form or verbally. Further details on how to submit written comments are provided in the Public Participation section of this notice. In lieu of sending written comments, you are invited to attend the public scoping meetings scheduled as follows:

Schedule for Public Scoping Meetings
Date and time | Location
Monday, June 7, 2004 at 7 p.m. | Best Western Hitching Post 1700 West Lincolnway, Cheyenne, WY.
Tuesday, June 8, 2004 at 7 p.m. | Hungry Miner Restaurant 2300 West Spruce, Rawlins, WY.
Wednesday, June 9, 2004 at 7 p.m. | Moffat County Extension Office—CSU 539 Barclay Street, Craig, CO.
Thursday, June 10, 2004 at 7 p.m. | CSU Extension 779 Sulfur Creek Road, Meeker, CO.

This notice is being sent to landowners; Federal, State, and local government agencies; elected officials; environmental and public interest groups; Native American tribes; other interested parties; and local libraries and newspapers. We¹ encourage government representatives to notify their constituents of this planned project and encourage them to comment on their areas of concern.

¹ “We,” “us,” and “our” refer to the environmental staff of the FERC's Office of Energy Projects.

Summary of the Proposed Project

Entrega, an affiliate of EnCana Oil & Gas (USA) Inc., is planning to construct, own, and operate a new 327-mile-long interstate natural gas pipeline that will extend from the Meeker Hub near the Town of Meeker in the Piceance Basin of Rio Blanco County, Colorado, to new interconnections with Colorado Interstate Gas Company and Wyoming Interstate Company near Wamsutter, Wyoming. From Wamsutter, the pipeline would turn eastward, continuing on to the Cheyenne Hub near Rockport in Weld County, Colorado.² The pipeline would be 36 inches in diameter between the Meeker Hub and Wamsutter, and 42 inches in diameter between Wamsutter and the Cheyenne Hub. Under the maximum proposed gas compression, this project could ultimately add up to 2.0 billion cubic feet per day of new capacity to transport natural gas from the Western Rocky Mountain Region to markets on interstate pipelines serving the Cheyenne Hub and beyond.

² A “hub” is a location where several pipelines owned by different companies are in proximity or cross one another.

The project would include construction of five compressor stations and other appurtenant facilities, and would follow existing pipeline corridors for about 93 percent of the planned route.

A map depicting the planned pipeline route is provided in appendix 1.³

³ The appendices referenced in this notice are not being printed in the Federal Register. Copies are available on the Commission's Internet Web site (http://www.ferc.gov) at the “eLibrary” link or from the Commission's Public Reference and Files Maintenance Branch at (202) 502-8371. For instructions on connecting to eLibrary, refer to the end of this notice. Copies of the appendices are being sent to all those receiving this notice in the mail.

Entrega proposes to place the project in service in two phases. The 36-inch portion (Meeker Hub to Wamsutter) is proposed to commence service by the Fall of 2005. The remaining portion (Wamsutter to Cheyenne Hub) would commence service one year later. To achieve the initial in-service date, Entrega intends to request approval to begin construction of the pipeline facilities in the Spring of 2005.

Land Requirements

Construction of the pipeline would require about 5,159 acres of land. Where paralleling another pipeline, the new pipeline would typically be located about 40 feet from the existing pipeline. Entrega has proposed a pipeline construction right-of-way of 125 feet. The construction right-of-way may be expanded at special work areas (e.g., steep slopes, major stream crossings). Entrega has requested an 80-foot-wide permanent right-of-way, although vegetation would be periodically cleared on only 50 feet of the permanent right-of-way.

The EIS Process

The FERC will be the lead Federal agency for the EIS process which is being conducted to satisfy the requirements of the National Environmental Policy Act (NEPA). NEPA requires the Commission to take into account the environmental impacts that could result from an action whenever it considers the issuance of a Certificate of Public Convenience and Necessity (Certificate).

NEPA also requires us to discover and address issues and concerns the public may have about proposals and to ensure those issues and concerns are analyzed in the EIS. This process is referred to as “scoping.” The goal of the scoping process is to focus the analysis in the EIS on the important and potentially significant environmental issues related to the proposed action, and on reasonable alternatives. This notice formally announces the beginning of the scoping process and requests agency and public comments on the Entrega proposal. All scoping comments received will be considered during the preparation of the EIS. To ensure your comments are considered, please carefully follow the instructions in the Public Participation section of this notice.

Our independent analysis of Entrega's proposal will be included in a draft EIS. The draft EIS will be mailed to Federal, state, and local government agencies; elected officials; environmental and public interest groups; Native American tribes; affected landowners; other interested parties; local libraries and newspapers; and the Commission's official service list. A 45-day comment period will be allotted for review of the EIS. We will consider all timely comments and revise the document, as necessary, before issuing a final EIS.

The Entrega Gas Pipeline Project is in the preliminary design stage. At this time, specific routes and other details are being finalized and no formal application has been filed with the FERC. Entrega expects to file a formal application with the FERC by September 2004. Although we have no formal Certificate application, we are initiating our review of Entrega's planned project under our NEPA Pre-Filing Process. The purpose of the FERC's NEPA Pre-filing Process is to:

• Establish a framework for constructive discussion between the project proponents, potentially affected landowners, agencies, and the Commission staff;

• Encourage the early involvement of interested stakeholders to identify issues and study needs; and

• Attempt to resolve issues early, before an application is filed with the FERC.

We have already held early discussions with the U.S. Department of the Interior's Bureau of Land Management (BLM), which has agreed to assist us in the preparation of the EIS as a cooperating agency to satisfy its NEPA responsibilities. By this notice, we are asking other Federal, state, and local agencies with jurisdiction and/or special expertise with respect to environmental issues to formally cooperate with us, too. Agencies that would like to request cooperating status should follow the instructions for filing comments provided below.

Public Participation

You can make a difference by providing us with your specific comments or concerns about the planned project. Please focus your comments on the potential environmental effects, reasonable alternatives (including alternative facility sites and pipeline routes), and measures to avoid or lessen environmental impact. The more specific your comments, the more useful they will be. To ensure that your comments are timely and properly recorded, please mail your comments so that they will be received in Washington, DC on or before June 15, 2004, and carefully follow these instructions:

• (Send an original and two copies of your letter to: Magalie R. Salas, Secretary, Federal Energy Regulatory Commission, 888 First Street, NE., Room 1A, Washington, DC 20426;

• (Label one copy of your comments for the attention of Gas Branch 1; and

• (Reference Docket No. PF04-7-000 on the original and both copies.

The public scoping meetings (see page 1 of this notice) are designed to provide another opportunity to offer comments on the planned project. Interested groups and individuals are encouraged to attend the meetings and present comments on the environmental issues they believe should be addressed in the EIS. A transcript of the meetings will be made so that your comments will be accurately recorded.

A docket number (PF04-7-000) has been established to place information filed by Entrega and related documents issued by the Commission, into the public record.⁴ Once a formal application is filed, the Commission will:

⁴ To view information in the docket, follow the instructions for using the eLibrary link in Availability of Additional Information, below.

• Publish a Notice of Application in the Federal Register;

• Establish a new docket number; and

• Set a deadline for interested persons to intervene in the proceeding.

Because the Commission's NEPA Pre-Filing Process occurs before an application to begin a proceeding is officially filed, petitions to intervene during this process are premature and will not be accepted by the Commission.

The Commission encourages electronic filing of comments. See 18 CFR 385.2001(a)(1)(iii) and the instructions on the Commission's Internet Web site at http://www.ferc.gov under the “eFiling” link and the link to the User's Guide. Prepare your submission in the same manner as you would if filing on paper and save it to a file on your hard drive. Before you can file comments you will need to create a free account by clicking on “Login to File” and then “New User Account.” You will be asked to select the type of filing you are making. This filing is considered a “Comment on Filing.”

Route Inspection

From June 7-11, we will also be conducting an inspection of the route and locations of aboveground facilities associated with Entrega's planned project. This inspection will include both aerial and ground components. Anyone interested in participating in the inspection activities may contact the FERC's Office of External Affairs (identified below) for more details and must provide their own transportation.

Environmental Mailing List

If you wish to remain on our mailing list to receive any additional environmental notices and copies of the draft and final EIS, it is important that you return the Return Mailer (appendix 2) attached to this notice. If you do not return the mailer, you will be removed from our mailing list.

Availability of Additional Information

Additional information about the planned project is available from the Commission's Office of External Affairs, at 1-866-208-FERC (3372) or on the FERC Internet Web site (http://www.ferc.gov). Using the “eLibrary” link, select “General Search” from the eLibrary menu, enter the selected date range and “Docket Number” (i.e., PF04-7-000), and follow the instructions. Searches may also be done using the phrase “Entrega Gas Pipeline” in the “Text Search” field. For assistance with access to eLibrary, the helpline can be reached at 1-866-208-3676, TTY 202-502-8659, or at FERCOnLineSupport@ferc.gov. The eLibrary link on the FERC Internet Web site also provides access to the texts of formal documents issued by the Commission, such as orders, notices, and rulemakings.

The Commission now offers a free service called eSubscription that allows you to keep track of all formal issuances and submittals in specific dockets. This can reduce the amount of time you spend researching proceedings by automatically providing you with notification of these filings, document summaries, and direct links to the documents. To register for this service, go to http://www.ferc.gov/esubscribenow.htm.

In addition, a fact sheet prepared by the FERC entitled “An Interstate Natural Gas Facility On My Land? What Do I Need To Know?” is available for viewing on the FERC Internet Web site. This fact sheet addresses a number of typically asked questions, including the use of eminent domain and how to participate in the Commission's proceedings.

Entrega has initiated a Public Participation Plan to provide a means of communication for participating stakeholders. A toll-free number (1-866-305-3830) has been established for communicating with Entrega representatives regarding this project. Also, contacts and information requests can be made by e-mail to Entrega at info@entregapipeline.com. Finally, Entrega has established a Web site for this project. The Web site includes a list of public repositories along the planned route where all maps are available for inspection, along with applications filed with state and Federal agencies, among other useful information. Entrega's Web site is: http://www.entregapipeline.com.

Magalie R. Salas,
Secretary.

[FR Doc. E4-1038 Filed 5-7-04; 8:45 am]

BILLING CODE 6717-01-P